DEPARTMENT OF TRANSPORTATION

Federal Aviation Administration

Notice of Intent To Rule on Application 03-06-C-00-FAR To Impose and Use the Revenue From a Passenger Facility Charge (PFC) at Hector International Airport, Fargo, ND

AGENCY: Federal Aviation Administration (FAA), DOT.

ACTION: Notice of intent to rule on application.

SUMMARY: The FAA proposes to rule and invites public comment on the application to impose and use the revenue from a PFC at Hector International Airport under the provisions of the 49 U.S.C. 40117 and Part 158 of the Federal Aviation Regulations (14 CFR part 158).

DATES: Comments must be received on or before December 3, 2003.

ADDRESSES: Comments on this application may be mailed or delivered in triplicate to the FAA at the following address: Bismarck Airports District Office, 2301 University Drive, Building 23B, Bismarck, North Dakota 58504.

In addition, one copy of any comments submitted to the FAA must be mailed or delivered to Shawn Dobberstein, Executive Director, Hector International Airport, at the following address: P.O. Box 2845, Fargo, North Dakota 58108.

Air carriers and foreign air carriers may submit copies of written comments previously provided to the Municipal Airport Authority of Fargo under section 158.23 of Part 158.

FOR FURTHER INFORMATION CONTACT: Thomas T. Schauer, Program Manager, Bismarck Airports District Office, 2301 University Drive, Building 23B, Bismarck, North Dakota 58504, (701) 323-7380. The application may be reviewed in person at this same location.

SUPPLEMENTARY INFORMATION: The FAA proposes to rule and invites public comment on the application to impose and use the revenue from a PFC at Hector International Airport under the provisions of the 49 U.S.C. 40117 and Part 158 of the Federal Aviation Regulations (14 CFR part 158).

On October 6, 2003, the FAA determined that the application to impose and use the revenue from a PFC submitted by Municipal Airport Authority of Fargo was substantially complete within the requirements of section 158.25 of Part 158. The FAA will approve or disapprove the application, in whole or in part, no later than January 7, 2004.

The following is a brief overview of the application.

Proposed change effective date: July 1, 2004.

Proposed change expiration date: June 1, 2017.

Level of the proposed PFC: $4.50.

Total estimated PFC revenue: $12,469,848.

Brief description of proposed projects: PFC Application, PFC Annual Audit, Administration of PFC, Snow Removal Equipment Front End Loaders, Continuous Friction Measuring Equipment, Runway Sweeper, Remove Power Line Obstruction, Security Fence Modifications, Storm Sewer Modifications/Rehabilitations, Passenger Terminal Rehabilitation, Rehabilitate Rotating Beacon Lower Platform, Electrical Vault Modification, Wildlife Hazard Assessment, Land Acquisition—Parcel 1, General Aviation Apron, Taxiway A Storm Sewer, Air Carrier Apron Rehabilitation, Runway 8/26 Extension, Access Control System Upgrade, Reconstruct Taxiway B and G2, Relocate Runway 31 Threshold, and Construct G3, Remove and Replace Security Fence along Taxiway A, and Preliminary Engineering for the Reconstruction of Runway 17/35, Reconstruction of Runway 17/35.

Class or classes, of air carriers, which the public agency has requested, not be required to collect PFCs: Air Taxi/Commercial Operators filing FAA Form 1800-31.

Any person may inspect the application in person at the FAA office listed above under FOR FURTHER INFORMATION CONTACT.

In addition, any person may, upon request, inspect the application, notice and other documents germane to the application in person at the Municipal Airport Authority of Fargo.

Issued in Des Plaines, Illinois on October 23, 2003.
Laurie Suttmeier,
Acting Manager, Planning and Programming Branch, Airports Division, Great Lakes Region.

[FR Doc. 03-27508 Filed 10-31-03; 8:45 am]

BILLING CODE 4910-13-M